Presidential Determination No. 2004-52 of September 24, 2004

Certification Permitting Rescission of Iraq as a Sponsor of Terrorism

Memorandum for the Secretary of State

On September 13, 1990, Acting Secretary of State Eagleburger designated Iraq as a state sponsor of terrorism (55 Fed. Reg. 37793-01).

Consistent with section 6(j)(4)(A) of the Export Administration Act of 1979, Public Law 96-72, as amended, and as continued in effect by Executive Order 13222 of August 17, 2001, 66 Fed. Reg. 44025, I hereby certify that:

(1)

There has been a fundamental change in the leadership and policies of the Government of Iraq;

(2)

Iraq's government is not supporting acts of international terrorism; and

(3)

Iraq's government has provided assurances that it will not support acts of international terrorism in the future.

Accordingly, the prerequisites for your determination to rescind Iraq's designation as a state sponsor of terrorism will be satisfied once you have transmitted this certification to the Congress.

This certification shall also satisfy the provisions of section 620A(c)(1) of the Foreign Assistance Act of 1961, Public Law 87-195, as amended, and section 40(f)(1)(A) of the Arms Export Control Act, Public Law 90-629, as amended.

You are authorized and directed to report this certification to the Congress and to arrange for its publication in the Federal Register.

B

THE WHITE HOUSE,

Washington, September 24, 2004.

[FR Doc. 04-22102

Filed 9-29-04; 8:45 am]

Billing code 4710-10-P